DEPARTMENT OF ENERGY

Federal Energy Regulatory Commission

[Project No. 13220-001]

Notice of Preliminary Permit Application Accepted for Filing and Soliciting Comments, Motions To Intervene, and Competing Applications; Pacific Gas and Electric Company

On September 1, 2011, Pacific Gas and Electric Company (PG&E) filed an application for a preliminary permit, pursuant to section 4(f) of the Federal Power Act (FPA), proposing to study the feasibility of the Kings River Pumped Storage Project (project) to be located on North Fork Kings River, Short Hair Creek, and Lost Canyon Creek, about 30 miles east of Shaver Lake in Fresno County, California. The sole purpose of a preliminary permit, if issued, is to grant the permit holder priority to file a license application during the permit term. A preliminary permit does not authorize the permit holder to perform any land-disturbing activities or otherwise enter upon lands or waters owned by others without the owners' express permission.

The proposed project would consist of one of the following two possible designs: ¹ (1) Option 1 consisting of (i) a dam in the Lost Canyon area, 200 feet high and 700 feet long; (ii) a reservoir with a surface elevation of 7,720 feet above mean sea level (msl) and an estimated storage capacity of 15,695 acre-feet; (iii) an 8,000-foot-long power tunnel including intake structure, penstock, and tailrace; (2) option 2 consisting of (i) a dam in the Lower Short Hair Creek area with a height of 175 feet high and length of 1,700 feet; (ii) a reservoir with full pool elevation of 8,245 feet msl and storage capacity of 16,290 acre-feet; (iii) a 14,000-foot-long power tunnel including intake structure, penstock, and tailrace; (3) the existing Wishon reservoir, with a surface area of 1,025 acres, storage capacity of 128,639 acre-feet, and a normal water surface elevation of 6,550 feet msl, acting as the lower reservoir for either proposed plan; (4) a powerhouse with a total installed capacity from 380 to 1,140 megawatts; (5) a transmission line between 2,000 and 5,000 feet long and of 230 or 500 kilovolts; and (6) appurtenant facilities. The proposed project would have an annual production between 508 and 2,031 gigawatt hours.

¹ PG&E would also investigate the possible addition of equipment and other infrastructure within the existing Helms Project (FERC Project No. 2375), which uses the existing Courtland reservoir as the upper reservoir and the existing Wishon reservoir as a lower reservoir. Any such addition may require an amendment of the existing license.

Applicant Contact: Mr. Randall Livingston, Vice President—Power Generation, Pacific Gas and Electric Company, 245 Market Street, San Francisco CA 94105-1702; phone: (415) 973-6950.

FERC Contact: Joseph Hassell; phone: (202) 502-8079.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13220-001) in the docket number field to access the document. For assistance, contact FERC Online Support.

Dated: October 13, 2011.
Kimberly D. Bose,
Secretary.

[FR Doc. 2011-27229 Filed 10-20-11; 8:45 am]

BILLING CODE 6717-01-P